ENVIRONMENTAL PROTECTION AGENCY

[EPA-HQ-OPP-2009-1017; FRL-8853-4]

Cancellation Orders for Certain Pesticide Registrations: Ethofumesate and Monosodium Methanearsonate (MSMA); Correction

AGENCY: Environmental Protection Agency (EPA).

ACTION: Notice; correction.

SUMMARY: EPA published a cancellation order in the Federal Register of July 30, 2010, concerning the voluntary cancellation of several pesticide products, one of which was Source Dynamics' ethofumesate product, EPA Reg. No. 082542-00005. This notice corrects, with respect to that product, the July 30, 2010 Federal Register notice and cancellation order regarding a public comment and the existing stocks provision. Additionally, EPA published a cancellation order in the Federal Register of July 14, 2010, concerning the voluntary cancellation of affected monosodium methanearsonate (MSMA) pesticide products. This notice corrects typographical errors in the July 14, 2010 notice and cancellation order regarding the EPA registration numbers of two Albaugh Inc., MSMA products affected by the cancellation order.

DATES: These corrections are effective December 13, 2010.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this corrective notice do?

This notice makes corrections to two Federal Register notices and Cancellation Orders as set forth below.

1. FR Doc. 2010-18773, published in the Federal Register of July 30, 2010 (75 FR 44954) (FRL-8837-1) is corrected as follows:

a. On page 44954, third column, the fourth sentence of the SUMMARY, “The Agency did not receive any comments on the notice.” is corrected to read “The Agency received one comment from Bayer CropScience regarding ethofumesate product EPA Reg. No. 082542-00005. In response to this comment, the Agency has changed the existing stocks provision as it relates to EPA Reg. No. 082542-00005. The new provision, as specified in Unit VI. of this cancellation order titled “Provisions for Disposition of Existing Stocks” allows no sales or distribution of that product by the registrant. The public comment and a letter from the Agency to Source Dynamics explaining the basis for this change are included in docket ID number EPA-HQ-OPP-2009-1017.”

b. On page 44964, first column, Unit VI. is corrected to read as follows:

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks products listed in Table 1 of Unit II., except EPA Reg. No. 082542-00005, Ethofumesate Technical, until August 1, 2011, which is 1 year after the publication of the cancellation order in the Federal Register. Thereafter, the registrants are prohibited from selling or distributing products listed in Table 1 of Unit II., except for export in accordance with FIFRA section 17, or proper disposal. Persons other than the registrants may sell, distribute, or use existing stocks of products listed in Table 1 of Unit II., except EPA Reg. No. 082542-00005, Ethofumesate Technical, until existing stocks are exhausted, provided that such sale, distribution, or use is consistent with the terms of the previously approved labeling on, or that accompanied, the canceled products.

Any sale or distribution by the registrant of existing stocks of EPA Reg. No. 082542-00005 is prohibited from July 30, 2010.

2. FR Doc. 2010-17155 published in the Federal Register of July 14, 2010 (75 FR 40824) (FRL-8828-5) is corrected on page 40825, in Table 1.—MSMA Product Cancellations, in the first column of Table 1, registration numbers, “42750-38” and “42750-39” are corrected to read “42750-28” and “42750-29,” respectively.

List of Subjects

Environmental protection.

Dated: December 3, 2010.
Richard P. Keigwin, Jr.,
Director, Pesticide Re-evaluation Division, Office of Pesticide Programs.

[FR Doc. C1-2010-31212 Filed 12-10-10; 8:45 am]

BILLING CODE 6560-50-P